FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants

Quest Logistics, Inc., 9999 NW 89 Ave., Bay #3, Medley, FL 33178, Officer: Gustavo Belgrano, General Manager (Qualifying Individual)

Oceanlinx International LLC, 15 Enclosure Drive, Morganville, NJ 07751, Officer: S. Raghuveer, Vice President (Qualifying Individual)

Non-Vessel Operating Common Carrier and Ocean Freight Forwarder Transportation Intermediary Applicants

TPS Aviation, Inc., 1515 Crocker Avenue, Hayward, CA 94544-7038, Officer: George S. Kujiraoka, President (Qualifying Individual)

American Global Logistics Inc., 122 East 55th Street., 6th Floor, New York, NY 10022, Officer: John Pragelas, Managing Director (Qualifying Individual)

YES Logistics Corporation, 475 14th Street, Suite 500, Oakland, CA 94612 Officers: Frank Chao, President (Qualifying Individual), Ching Chang Wu, Director

Click4Ship.com, Inc., 1448 S. Santa Fe Avenue, Compton, CA 90221, Officers:

Richard Zhao, CEO (Qualifying Individual), Haiying Chen, CFO

Ocean Freight Forwarders—Ocean Transportation Intermediary Applicants

Koil Inc. d/b/a Vship Co., 61-20, Grand Central Pkwy, C-208, Forest Hills, NY 11375, Officers: Bindu Koilparampil, President (Qualifying Individual), Ali A. Siddiqui, Secretary

Beluga International Inc., 1079 Carriage Hill Parkway, Annapolis, MD 21401, Officers: Peter Johnson, President (Qualifying Individual), Jenny Zhang, Vice President

Universal Freightways Texas, Inc. d/b/a Universal Freightways 18411 Viscount Road, Bldg. #9, Suite 100, Houston, TX 77032, Officers: Juan Carlos Esquivel, President (Qualifying Individual), Robert Esquivel, Director

Universal Freightways New York Corp d/b/a Universal Freightways, 868 Elston Street, Rahway, NJ 07065, Officers: Juan Carlos Esquivel, President (Qualifying Individual), Robert Esquivel, Director

Interlogistix, L.L.C., 140 E. 19th Avenue, Suite 201, Denver, CO 80203, Officers: Brad Schmeh, Operation Manager (Qualifying Individual), David Cisneros, Managing Partner

Alden International, Inc., 809 Washington, Traverse City, MI 49686, Officer: Evan A. Smith, President (Qualifying Individual)

FR Meyer's Sohn North America LLC, One First Avenue, Suite 100, West Reading, PA 19611, Officers: George Santa Cara, Vice President (Qualifying Individual), Robert K. Buack, President

Dated: September 15, 2000
Theodore A. Zook,
Assistant Secretary

[FR Doc. 00-24192 Filed 9-19-00; 8:45 am]

BILLING CODE 6730-01-P